DEPARTMENT OF THE INTERIOR

Fish and Wildlife Service

[FWS-R9-IA-2010-N038; 96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless a Federal permit is issued that allows such activities. Both laws require that we invite public comment before issuing these permits.

DATES: We must receive requests for documents or comments on or before March 31, 2010. We must receive requests for marine mammal permit public hearings, in writing, at the address shown in the ADDRESSES section by March 31, 2010.

ADDRESSES: Brenda Tapia, Division of Management Authority, U.S. Fish and Wildlife Service, 4401 North Fairfax Drive, Room 212, Arlington, VA 22203; fax (703) 558-7725; or e-mail DMAFR@fws.gov.

FOR FURTHER INFORMATION CONTACT: Brenda Tapia, (703) 358-2104 (telephone); (703) 558-7725 (fax); DMAFR@fws.gov (e-mail).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an e-mail or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), and our regulations in the Code of Federal Regulations (CFR) at 50 CFR 17, the Marine Mammal Protection Act of 1972, as amended (16 U.S.C. 1361 et seq.), and our regulations in the Code of Federal Regulations (CFR) at 50 CFR 18 require that we invite public comment before final action on these permit applications. Under the MMPA, you may request a hearing on any MMPA application received. If you request a hearing, give specific reasons why a hearing would be appropriate. The holding of such a hearing is at the discretion of the Service Director.

III. Permit Applications

[A.] Endangered Species

Applicant: Dr. Ajit Varki, Department of Cellular and Molecular Medicine, University of California, San Diego, CA, PRT-236267

The applicant requests a permit to acquire from Coriell Institute, Camden, NJ, in interstate commerce DNA and/or cell lines from chimpanzee, (Pan troglodytes), gorilla (Gorilla), and Bornean orangutan (Pongo pygmaeus) for the purpose of scientific research. This notification covers activities to be conducted by the applicant over a one-year period.

Applicant: Exotic Feline Breeding Compound, Inc., Rosamond, CA, PRT-234072

The applicant requests a permit to import one captive bred male Iranian leopard (Panthera pardus saxicolor) from Aalborg Zoo, Denmark, for the purpose of enhancement of the survival of the species.

The following applicants each request a permit to import the sport-hunted trophy of one male bontebok (Damaliscus pygargus pygargus) culled from a captive herd maintained under the management program of the Republic of South Africa, for the purpose of enhancement of the survival of the species.

Applicant: Terrance David Braden, Williamston, MI, PRT-231677

Applicant: Alan Maiss, Reno, NV, PRT-228691

Applicant: Conroe Taxidermy, Conroe, TX, PRT-230925

On January 26, 2010, we published a Federal Register notice inviting the public to comment on several applications for permits to conduct certain activities with endangered species (75 FR 4103). We made an error in reporting the species of the animal in the Conroe Taxidermy application, which starts at the top of column 3 on page 4103. The animal is not a male Scimitar-horned oryx (Oryx dammah) as we reported in 75 FR 4103, but rather a male Bontebok (Damaliscus pygargus pygargus). All the other information we printed was correct. With this notice, we correct that error and reopen the comment period for PRT-230925.

[B.] [Endangered Marine Mammals and] Marine Mammals

Applicant: U.S. Fish and Wildlife Service, Jacksonville, FL, PRT-770191

The applicant requests a permit and a letter of authorization for the rescue, rehabilitation and release of unlimited number of stranded West Indian manatees (Trichechus manatus) in the waters of the United States, the import of rescued manatees, and import and export of biological specimens. This notification covers activities to be conducted by the applicant over a 5-year period.

Concurrent with publishing this notice in the Federal Register, we are forwarding copies of the above applications to the Marine Mammal Commission and the Committee of Scientific Advisors for their review.

Dated: February 19, 2010.
Brenda Tapia,
Program Analyst, Branch of Permits, Division of Management Authority.

[FR Doc. 2010-4168 Filed 2-26-10; 8:45 am]

BILLING CODE 4310-55-P